DEPARTMENT OF COMMERCE

National Oceanic and Atmospheric Administration

[RTID 0648-XD293]

Pacific Fishery Management Council; Public Meeting

AGENCY: National Marine Fisheries Service (NMFS), National Oceanic and Atmospheric Administration (NOAA), Commerce.

ACTION: Notice of public online meeting.

SUMMARY: The Coastal Pelagic Species (CPS) Subcommittee of the Pacific Fishery Management Council's (Pacific Council's) Scientific and Statistical Committee (SSC) will hold an online meeting to update the Accepted Practices Guidelines for CPS Stock Assessments document. The meeting is open to the public.

DATES: The SSC CPS Subcommittee's online meeting will be held Friday, September 22, 2023 beginning at 8 a.m. and continuing until 12 p.m. Pacific Daylight Time or until business for the day has been completed.

ADDRESSES: The SSC CPS Subcommittee's meeting will be an online meeting. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Ms. Jessi Doerpinghaus, Staff Officer, Pacific Fishery Management Council; telephone: (503) 820-2415.

SUPPLEMENTARY INFORMATION: The purpose of the SSC CPS Subcommittee's meeting is to update best practices for conducting CPS stock assessments. Recommendations of SSC CPS Subcommittee members will inform the Accepted Practices Guidelines for Stock Assessments in 2024, which is a compilation of guidelines for CPS stock assessment scientists. The full SSC and the Pacific Council will review the Accepted Practices Guidelines for Stock Assessments as recommended by the SSC CPS Subcommittee at the November Pacific Council meeting. The updated version of the Accepted Practices Guidelines for Stock Assessments will be posted on the Pacific Council's website shortly after the meeting.

No management actions will be decided by the SSC CPS Subcommittee. The SSC CPS Subcommittee members' role will be the development of recommendations for consideration by West Coast CPS stock assessment scientists.

Although nonemergency issues not contained in the meeting agendas may be discussed, those issues may not be the subject of formal action during this meeting. Action will be restricted to those issues specifically listed in this notice and any issues arising after publication of this notice that require emergency action under section 305(c) of the Magnuson-Stevens Fishery Conservation and Management Act, provided the public has been notified of the intent of the SSC CPS Subcommittee to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 30, 2023.
Rey Israel Marquez,
Acting Deputy Director, Office of Sustainable Fisheries, National Marine Fisheries Service.

[FR Doc. 2023-19084 Filed 9-1-23; 8:45 am]

BILLING CODE 3510-22-P